DEPARTMENT OF COMMERCE

National Oceanic and Atmospheric Administration

RIN: 0648-XI54

Western Pacific Fishery Management Council; Public Meeting

AGENCY: National Marine Fisheries Service (NMFS), National Oceanic and Atmospheric Administration (NOAA), Commerce.

ACTION: Notice of a public meeting.

SUMMARY: This notice advises the public that the Western Pacific Fishery Management Council (Council) will convene a meeting of the Mariana Archipelago Plan Team in Mangilao, Guam.

DATES: The Mariana Archipelago Plan Team meeting will be held Tuesday July 8, 2008 through Thursday July 10, 2008. For specific dates, times, and agenda items for the meeting, see SUPPLEMENTARY INFORMATION.

ADDRESSES: The meeting of the Mariana Archipelago Plan Team will be held at the Guam Department of Agriculture Conference Room, 192 Dairy Road, Mangilao, Guam 96923.

FOR FURTHER INFORMATION CONTACT: Kitty M. Simonds, Executive Director; telephone: (808) 522-8220.

SUPPLEMENTARY INFORMATION: The date, time and agenda for the Mariana Archipelago Plan Team meeting are as follows:

Tuesday, July 8, 2008, 9 a.m. - 5 p.m.

1. Introductions

2. Approval of Draft Agenda

3. Plan Team Organizational Structure

4. Report of the March 2008 Plan Team Meeting

5. Bottomfish Annual Report Module

a. Guam

b. CNMI

Wednesday, July 9, 2008, 9 a.m. - 5 p.m.

6. Bottomfish Annual Report Module (continued)

a. Guam

b. CNMI

7. Coral Reef Ecosystem Annual Report Module

a. Guam

b. CNMI

Thursday, July 10, 2008, 9 a.m. - 5 p.m.

8. Coral Reef Ecosystem Annual Report Module (continued)

a. Guam

b. CNMI

9. Update on Coral Reef Fishing Local Action Strategy

a. Guam

b. CNMI

10. Other Business

The order in which agenda items are addressed may change. Public comment periods will be provided throughout each day's agenda. The Plan Team will meet as late as necessary to complete scheduled business.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Kitty M. Simonds, (808) 522-8220 (voice) or (808) 522-8226 (fax), at least 5 days prior to the meeting date.

Authority: 16 U.S.C. 1801 et seq.

Dated: June 18, 2008.
Tracey L. Thompson,
Acting Director, Office of Sustainable Fisheries, National Marine Fisheries Service.

[FR Doc. E8-14067 Filed 6-20-08; 8:45 am]

BILLING CODE 3510-22-S